SMALL BUSINESS ADMINISTRATION

[Disaster Declaration #21349; KENTUCKY Disaster Number KY-20024 Declaration of Economic Injury]

Administrative Declaration of an Economic Injury Disaster for the Commonwealth of Kentucky

AGENCY: U.S. Small Business Administration.

ACTION: Notice.

SUMMARY: This is a notice of an Economic Injury Disaster Loan (EIDL) declaration for the Commonwealth of Kentucky dated November 15, 2025.

Incident: Louisville Airplane Crash.

DATES: Issued on November 15, 2025.

Incident Period: November 4, 2025.

Economic Injury (EIDL) Loan Application Deadline Date: August 17, 2026.

ADDRESSES: Visit the MySBA Loan Portal at https://lending.sba.gov to apply for a disaster assistance loan.

FOR FURTHER INFORMATION CONTACT: Jennifer Talarico, Office of Disaster Recovery & Resilience, U.S. Small Business Administration, 409 3rd Street SW, Suite 6050, Washington, DC 20416, (202) 205-6734.

SUPPLEMENTARY INFORMATION: Notice is hereby given that as a result of the Administrator's EIDL declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Jefferson.

Contiguous Counties:

Kentucky: Bullitt, Hardin, Oldham, Shelby, Spencer

Indiana: Clark, Floyd, Harrison

The Interest Rates are:

| Percent
Business and Small Agricultural Cooperatives without Credit Available Elsewhere | 4.000
Non-Profit Organizations without Credit Available Elsewhere | 3.625

The number assigned to this disaster for economic injury is 213490.

The Commonwealth and State which received an EIDL Declaration are Indiana, Kentucky.

(Catalog of Federal Domestic Assistance Number 59008)

(Authority: 13 CFR 1234.3(b).)

James Stallings,
Associate Administrator, Office of Disaster Recovery and Resilience.

[FR Doc. 2025-20283 Filed 11-18-25; 8:45 am]

BILLING CODE 8026-09-P